DEPARTMENT OF HEALTH AND HUMAN SERVICES

Substance Abuse and Mental Health Services Administration

Center for Substance Abuse Treatment; Notice of Meeting

Pursuant to Public Law 92-463, notice is hereby given of a Teleconference meeting of the Center for Substance Abuse Treatment (CSAT) National Advisory Council on June 23, 2006, from 11 a.m. to 12:30 p.m.

The meeting will include the review, discussion and evaluation of grant applications reviewed by Initial Review Groups (IRGs). Therefore, a portion of the meeting will be closed to the public as determined by the SAMHSA Administrator, in accordance with Title 5 U.S.C. 552b(c)(6) and 5 U.S.C. App. 2, section 10(d).

A portion of the meeting will also be open and include discussion of the Center's current administrative, legislative, and program developments. The public is invited to attend the open session in person or listen to the discussions via telephone. Due to limited space, seating will be on a registration-only basis. To register, contact the Council Executive Secretary, Ms. Cynthia Graham (see contact information below), to obtain the teleconference call-in number and access code. Please communicate with Ms. Graham to make arrangements to comment or to request special accommodations for persons with disabilities.

Substantive program information, a summary of the open session of the meeting, and a roster of Council members may be obtained by accessing the SAMHSA Council Web site, http://www.samhsa.gov/council, as soon as possible after the meeting, or by contacting Ms. Graham. The transcript for the meeting will also be available on the SAMHSA Council Web site within three weeks after the meeting.

Committee Name: Substance Abuse and Mental Health Services Administration, Center for Substance Abuse Treatment National Advisory Council.

Meeting Date: June 23—11 a.m.-12:30 p.m.

Place: 1 Choke Cherry Road, Room L-1057, Video Conference Room, Rockville, Maryland 20857.

Type: Closed: June 23—11 a.m.—11:30 a.m. Open: June 23-11:30 a.m.-12:30 p.m.

For Further Information Contact: Cynthia Graham, M.S., Executive Secretary, SAMHSA/CSAT National Advisory Council, 1 Choke Cherry Road, Room 5-1036, Rockville, MD 20857. Telephone: (240) 276-1692. FAX: (240) 276-1690. E-mail: cynthia.graham@samhsa.hhs.gov.

Dated: June 6, 2006.
Toian Vaughn,
Committee Management Officer, Substance Abuse and Mental Health, Services Administration.

[FR Doc. E6-9171 Filed 6-12-06; 8:45 am]

BILLING CODE 4162-20-P